DEPARTMENT OF COMMERCE

International Trade Administration

[A-475-845]

Mattresses From Italy: Final Affirmative Determination of Sales at Less Than Fair Value and Final Affirmative Determination of Critical Circumstances; Correction

AGENCY: Enforcement and Compliance, International Trade Administration, Department of Commerce.

ACTION: Notice; correction.

SUMMARY: The U.S. Department of Commerce (Commerce) published a notice in the Federal Register of May 15, 2024, containing the final determination of the less-than-fair-value (LTFV) investigation on mattresses from Italy. This notice incorrectly listed the name of an exporter/producer under investigation as Gruppo Buoninfante Industriale S.P.A, in the sections entitled “Final Affirmative Determination of Critical Circumstances” and “Final Determination.”

FOR FURTHER INFORMATION CONTACT: Adam Simons, AD/CVD Operations, Office IX, Enforcement and Compliance, International Trade Administration, U.S. Department of Commerce, 1401 Constitution Avenue NW, Washington, DC 20230; telephone: (202) 482-6172.

SUPPLEMENTARY INFORMATION:

Background

On May 15, 2024, Commerce published in the Federal Register its final determination in the LTFV investigation on mattresses from Italy.¹ In this notice, Commerce incorrectly listed the name of one of the producers/exporters under investigation as Gruppo Buoninfante Industriale S.P.A. in the sections entitled “Final Affirmative Determination of Critical Circumstances” and “Final Determination.”

¹ See Mattresses from Italy: Final Affirmative Determination of Sales at Less Than Fair Value and Final Affirmative Determination of Critical Circumstances, 89 FR 42432 (May 15, 2024).

Correction

In the Federal Register of May 15, 2024, in FR Doc 2024-10565, on page 42430, in the second column, in the section entitled “Final Affirmative Determination of Critical Circumstances,” correct the name Gruppo Buoninfante Industriale S.P.A to be Gruppo Industriale Buoninfante S.P.A. In addition, also on page 42430, in the third column, in the section entitled “Final Determination” in the table, correct the name Gruppo Buoninfante Industriale S.P.A to be Gruppo Industriale Buoninfante S.P.A.

Notification to Interested Parties

This notice is issued and published in accordance with sections 735(d) and 777(i) of the Tariff Act of 1930, as amended, and 19 CFR 351.210(c).

Dated: July 30, 2024.
Ryan Majerus,
Deputy Assistant Secretary for Policy and Negotiations, performing non-exclusive functions and duties of the Assistant Secretary for Enforcement and Compliance.

[FR Doc. 2024-17390 Filed 8-6-24; 8:45 am]

BILLING CODE 3510-DS-P